DEPARTMENT OF ENERGY

Federal Energy Regulatory Commission

[Docket No. IC04-555-001, FERC-555]

Commission Information Collection Activities, Proposed Collection; Comment Request; Submitted for OMB Review

September 29, 2004.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of May 14, 2004 (69 FR 26561-26562) and has responded to their comments in its submission to OMB.

DATES: Comments on the collection of information are due by October 31, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-555-001.

Documents filed electronically via the Internet must be prepared in, MS Word, Portable Document Format, Word Perfect or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866)208-3676, or for TTY, contact (202)502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-555 “Records Retention Requirements.”

2. Sponsor: Federal Energy Regulatory Commission.

3. Control No. 1902-0098.

The Commission is now requesting that OMB approve with a three-year extension of the expiration date, with no changes to the existing collection. The information filed with the Commission is mandatory.

4. Necessity of the Collection of Information: Submission of the information is necessary to enable the Commission to carry out its responsibilities in implementing the statutory provisions Sections 301, 304 and 309 of the Federal Power Act (FPA) (16 U.S.C. 825, 825c and 825h), Sections 8, 10, and 16 of the Natural Gas Act (NGA) (Pub. L. 75-688) (15 U.S.C. 717-717w) and Section 20 of the Interstate Commerce Act (ICA 49 U.S.C. 20). The regulations for preservation of records establish retention periods, necessary guidelines and requirements to sustain retention of applicable records for the regulated public utilities, natural gas and oil pipeline companies subject to FERC's jurisdiction. These records will be used by the regulated companies as the basis for their required rate and tariff filings and reports for the Commission. In addition, the records will be used by the Commission's audit staff during compliance reviews, by enforcement staff during investigations and for special analyses as deemed necessary by the Commission. The records retained by jurisdictional companies as directed by the Commission are the result of a mandatory requirement.

On January 27, 2000, FERC issued a final rule (Order No. 617) amending its records retention regulations for public utilities and licensees, natural gas and oil pipeline companies. These changes included revising the general instructions and shortening various records retention schedules. Order No. 617's objective was to reduce or eliminate burdensome and unnecessary regulatory requirements. It has been over three years since Order No. 617 took effect on January 1, 2001, and there has been sufficient time for jurisdictional companies to implement Order No. 617's provisions. Therefore in responding to this notice, the Commission is interested in knowing if the jurisdictional companies have obtained substantial reductions in the recordkeeping burden for maintaining their records under the revised retention periods. In addition, the Commission is interested in learning if and what savings were achieved by the jurisdictional companies by freeing up storage space formerly used for retaining records. The Commission implements these filing requirements in the Code of Federal Regulations (CFR) under 18 parts 125, 225 and 356.

5. Respondent Description: The respondent universe currently comprises 535 companies (on average per year) subject to the Commission's jurisdiction.

6. Estimated Burden: 1,285,070 total hours, 535 respondents (average per year), 1 response per respondent, and 2402 hours per respondent for recordkeeping (average).

7. Estimated Cost Burden to Respondents: 1,285,070 hours/2080 hours per years × $107,185 per year = $66,221,263 or $123,778 per respondent.

Statutory Authority: Sections 301, 304 and 309 of the Federal Power Act (FPA) (16 U.S.C. 825, 825c and 825h), Sections 8, 10, and 16 of the Natural Gas Act (NGA) (Pub. L. 75-688) (15 U.S.C. 717-717w) and Section 20 of the Interstate Commerce Act (ICA 49 U.S.C. 20).

Magalie R. Salas,
Secretary.

Docket No. IC04-555-001

[FR Doc. E4-2512 Filed 10-5-04; 8:45 am]

BILLING CODE 6717-01-P